DEPARTMENT OF LABOR

Employment and Training Administration

[TA-W-71,248]

International Business Machines Corporation, Global Technology Services Business Unit, Integrated Technology Services, Cost and Expense Team, Working From Various States in the United States, Including On-Site Leased Workers From Datrose, Inc., Reporting to Armonk, NY; Amended Certification Regarding Eligibility To Apply for Worker Adjustment Assistance

In accordance with section 223 of the Trade Act of 1974, as amended (“Act”), 19 U.S.C. 2273, the Department of Labor issued a Certification of Eligibility to apply for Worker Adjustment Assistance on July 31, 2009, applicable to workers of International Business Machines Corporation, Global Technology Services Business Unit, Integrated Technology Services, Cost and Expense Team working from various states in the United States, reporting to Armonk, New York. The notice will be published soon in the Federal Register.

At the request of the State Agency, the Department reviewed the certification for workers of the subject firm. The workers are engaged in activities related to support for the Global Technology Services Business Unit.

The company reports that workers leased from Datrose, Inc., were employed on-site at the Armonk, New York, location of International Business Machines Corporation, Global Technology Services Business Unit, Integrated Technology Services, Cost and Expense Team. The Department has determined that these workers were sufficiently under the control of the subject firm to be considered leased workers.

Based on these findings, the Department is amending this certification to include workers leased from Datrose, Inc., working on-site at the Armonk, New York location of International Business Machines Corporation, Global Technology Services Business Unit, Integrated Technology Services, Cost and Expense Team.

The amended notice applicable to TA-W-71,248 is hereby issued as follows:

All workers of International Business Machines Corporation, Global Technology Services Business Unit, Integrated Technology Services, Cost and Expense Team, including on-site leased workers from Datrose, Inc., working in various states but reporting to Armonk, New York, who became totally or partially separated from employment on or after June 1, 2008, through July 31, 2011, and all workers in the group threatened with total or partial separation from employment on date of certification through two years from the date of certification, are eligible to apply for adjustment assistance under Chapter 2 of Title II of the Trade Act of 1974, as amended.

Signed in Washington, DC, this 8th day of April, 2010.
Elliott S. Kushner,
Certifying Officer, Division of Trade Adjustment Assistance.

[FR Doc. 2010-8888 Filed 4-16-10; 8:45 am]

BILLING CODE 4510-FN-P